SUSQUEHANNA RIVER BASIN COMMISSION

Commission Meeting

AGENCY: Susquehanna River Basin Commission.

ACTION: Notice.

SUMMARY: The Susquehanna River Basin Commission will hold its regular business meeting on March 9, 2017, in Scranton, Pennsylvania. Details concerning the matters to be addressed at the business meeting are contained in the Supplementary Information section of this notice.

DATES: The meeting will be held on Thursday, March 9, 2017, at 9 a.m.

ADDRESSES: The meeting will be held at the Radisson Lackawanna Station Hotel Scranton, Platform Lounge (Main Floor), 700 Lackawanna Avenue, Scranton, PA 18503.

FOR FURTHER INFORMATION CONTACT: Jason E. Oyler, General Counsel, telephone: (717) 238-0423, ext. 1312; fax: (717) 238-2436.

SUPPLEMENTARY INFORMATION: The business meeting will include actions or presentations on the following items: (1) Informational presentation of interest to the Middle Susquehanna Subbasin area; (2) adoption of final FY2018 budget; (3) ratification/approval of contracts/grants; (4) resolution setting a five-year docket term for withdrawals related to natural gas; (5) report on delegated settlements; and (6) Regulatory Program projects.

Projects listed for Commission action are those that were the subject of a public hearing conducted by the Commission on February 2, 2017, and identified in the notice for such hearing, which was published in 82 FR 898, January 4, 2017.

The public is invited to attend the Commission's business meeting. Comments on the Regulatory Program projects were subject to a deadline of February 13, 2017. Written comments pertaining to other items on the agenda at the business meeting may be mailed to the Susquehanna River Basin Commission, 4423 North Front Street, Harrisburg, Pennsylvania 17110-1788, or submitted electronically through http://www.srbc.net/pubinfo/publicparticipation.htm. Such comments are due to the Commission on or before March 3, 2017. Comments will not be accepted at the business meeting noticed herein.

Authority: Public Law 91-575, 84 Stat. 1509 et seq., 18 CFR parts 806, 807, and 808.

Dated: February 2, 2017.
Stephanie L. Richardson,
Secretary to the Commission.

[FR Doc. 2017-02488 Filed 2-6-17; 8:45 am]

BILLING CODE 7040-01-P